DEPARTMENT OF DEFENSE

Department of the Army

32 CFR Part 575

[Docket ID: USA-2020-HQ-0008]

RIN 0702-AB09

Admission to the United States Military Academy

AGENCY: Department of the Army, Department of Defense (DoD).

ACTION: Final rule.

SUMMARY: This final rule removes DoD's regulation concerning policies for the command and control of the United States Military Academy (USMA), the United States Military Academy Preparatory School (USMAPS), and the West Point Military Reservation. This part applies to organizational entities and members within the DoD. Therefore, this part can be removed from the CFR.

DATES: This rule is effective on March 23, 2021.

FOR FURTHER INFORMATION CONTACT: LTC Mark Rea at 703-695-9262.

SUPPLEMENTARY INFORMATION: This rule was last updated on March 2, 1979 (44 FR 11781). It has been determined that publication of this CFR part removal for public comment is impracticable, unnecessary, and contrary to public interest since it is based on removing DoD internal policies and procedures. This rule is redundant in that it established policy, assigned responsibilities, and prescribed procedures for members of DoD on the operation and oversight of the Military Service Academies. These internal policies and procedures are publicly available on the Department's issuance website.

DoD internal policies and guidance are current and reflective of requirements in statute, and will continue to be published in Army Regulation 150-1, “United States Military Academy Organization, Administration, and Operation” (available at https://armypubs.army.mil/ProductMaps/PubForm/AR.aspx).

This rule is not significant under Executive Order (E.O.) 12866, “Regulatory Planning and Review.”

List of Subjects in 32 CFR Part 575

Military academies, Military personnel.

PART 575—[REMOVED]

Accordingly, by the authority of 5 U.S.C. 301, 32 CFR part 575 is removed.

James W. Satterwhite Jr.,
Army Federal Register Liaison Officer.

[FR Doc. 2021-05910 Filed 3-22-21; 8:45 am]

BILLING CODE 3710-08-P